AGENCY FOR INTERNATIONAL DEVELOPMENT

Notice of Advisory Committee Public Meeting

AGENCY: Agency for International Development (USAID).

ACTION: Notice of Advisory Committee public meeting and request for public comment.

SUMMARY: Pursuant to the Federal Advisory Committee Act (FACA), notice is hereby given of Advisory Committee on Voluntary Foreign Aid (ACVFA) public meeting on Friday December 2, 2022.

ADDRESSES: To view additional information related to ACVFA please visit http://www.usaid.gov/who-we-are/organization/advisory-committee.

You may submit comments regarding the work of ACVFA to acvfa@usaid.gov OR the committee's public comment form at: https://www.usaid.gov/who-we-are/organization/advisory-committee/acvfa-contact-us. Include “Public Comment, ACVFA Meeting, December 2” in the subject line. All public comments and questions will be included in the official record of the meeting and posted publicly on the USAID website.

If you require a reasonable accommodation, please email reasonableaccommodations@usaid.gov. Include “Request for Reasonable Accommodation, ACVFA Meeting, December 2” in the subject line.

You may register to watch the live public meeting at this link: https://usaid.zoomgov.com/webinar/register/WN__oJoCBxYQ6y-1lb0z-BsFw.

FOR FURTHER INFORMATION CONTACT: Sophia Lajaunie, Designated Federal Officer for ACVFA, at slajaunie@usaid.gov or 917-804-3674.

SUPPLEMENTARY INFORMATION: ACVFA is USAID's external advisory committee, bringing together representatives from private voluntary organizations, nongovernmental organizations (NGOs), academia, advocacy, and the private sector. Its membership of internationally recognized leaders represent a broad range of sectors who support the Agency's mission and goals by advising on key development challenges and priorities.

ACVFA was re-established earlier this year and pursuant to its charter, is holding an annual public meeting on December 2, 2022, from 10:15 a.m.-11:45 a.m. ET. This meeting is free and open to the public. The Committee welcomes public participation and comment before, during, and after the meeting via the web and/or email addresses provided above.

American Sign Language interpretation will be provided during the public meeting. If you require a reasonable accommodation, please email reasonableaccommodations@usaid.gov. Include “Request for Reasonable Accommodation, ACVFA Meeting, December 2” in the subject line.

Due to technical reasons, AID is providing notice announcing this meeting with less than a 15-day notice.

Sophia Lajaunie,
ACVFA Designated Federal Officer.

[FR Doc. 2022-25326 Filed 11-21-22; 8:45 am]

BILLING CODE 6116-01-P